COMMISSION ON CIVIL RIGHTS

Sunshine Act Notice

AGENCY: United States Commission on Civil Rights.

ACTION: Notice of meeting.

DATE AND TIME: Friday, November 6, 2009; 9:30 a.m. EDT.

PLACE: 624 9th St., NW., Room 540, Washington, DC 20425.

Meeting Agenda

This meeting is open to the public.

I. Approval of Agenda

II. Program Planning

• Approval of Concept Papers for FY 2010 Briefing Report Topics

• Amendments to Title IX Briefing Report

• Update on Status of 2010 Enforcement Report

III. Approval of Minutes of October 30 Meeting

IV. Announcements

V. Staff Director's Report

VI. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: October 27, 2009.
David Blackwood,
General Counsel.

[FR Doc. E9-26208 Filed 10-27-09; 4:15 pm]

BILLING CODE 6335-01-P